DEPARTMENT OF TRANSPORTATION

Federal Aviation Administration

14 CFR Part 39

[Docket No. FAA-2021-0499; Project Identifier MCAI-2021-00571-E; Amendment 39-21612; AD 2021-13-07]

RIN 2120-AA64

Airworthiness Directives; GE Aviation Czech s.r.o. (Type Certificate Previously Held by WALTER Engines a.s., Walter a.s., and MOTORLET a.s.) Turboprop Engines

AGENCY: Federal Aviation Administration (FAA), DOT.

ACTION: Final rule; request for comments.

SUMMARY: The FAA is adopting a new airworthiness directive (AD) for all GE Aviation Czech s.r.o. (GEAC) M601D-11, M601E-11, M601E-11A, M601E-11AS, M601E-11S, and M601F model turboprop engines. This AD was prompted by the manufacturer finding errors in the Airworthiness Limitation Section (ALS) of the Engine Maintenance Manual (EMM), including errors in the formula to determine the equivalent flight cycles (FCs) of critical parts and errors with certain part numbers (P/Ns). The manufacturer also determined that the life limit of a certain compressor case is not listed in the ALS section of the applicable EMM. This AD requires recalculating the life of critical parts and, depending on the results of the recalculation, replacement of these critical parts. This AD also requires replacement of a certain compressor case. The FAA is issuing this AD to address the unsafe condition on these products.

DATES: This AD is effective June 30, 2021.

The Director of the Federal Register approved the incorporation by reference of a certain publication listed in this AD as of June 30, 2021.

The FAA must receive comments on this AD by July 30, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact GE Aviation Czech s.r.o., Beranových 65, 199 00 Praha 18, Letnany, Czech Republic; phone: +420 222 538 111; fax: +420 222 538 222. You may view this service information at the FAA, Airworthiness Products Section, Operational Safety Branch, 1200 District Avenue, Burlington, MA 01803. For information on the availability of this material at the FAA, call (781) 238-7759. It is also available at https://www.regulations.gov by searching for and locating Docket No. FAA-2021-0499.

Examining the AD Docket

You may examine the AD docket at https://www.regulations.gov by searching for and locating Docket No. FAA-2021-0499; or in person at Docket Operations between 9 a.m. and 5 p.m., Monday through Friday, except Federal holidays. The AD docket contains this final rule, any comments received, and other information. The street address for the Docket Operations is listed above.

FOR FURTHER INFORMATION CONTACT: Barbara Caufield, Aviation Safety Engineer, ECO Branch, FAA, 1200 District Avenue, Burlington, MA 01803; phone: (781) 238-7146; fax: (781) 238-7199; email: barbara.caufield@faa.gov.

SUPPLEMENTARY INFORMATION:

Background

The European Union Aviation Safety Agency (EASA), which is the Technical Agent for the Member States of the European Community, has issued EASA Emergency AD 2021-0125-E, dated May 7, 2021 (referred to after this as “the MCAI”), to address an unsafe condition for the specified products. The MCAI states:

Errors have been identified in the ALS section of the EMM [Engine Maintenance Manual], including errors in the formula to determine the equivalent flight cycles of critical parts, and certain part numbers. It was also determined that, inadvertently, certain M601E engines have a compressor case P/N M601-154.61 installed, the life limit of which is not listed in the ALS section of the applicable EMM.

These conditions, if not corrected, may lead to operation of an engine beyond the life limit of one or more critical parts, possibly resulting in failure of the engine and consequent reduced control of the aeroplane.

To address this potential unsafe conditions, GEAC issued [GEAC Alert Service Bulletin (ASB) ASB-M601D-72-00-00-0075, ASB-M601E-72-00-00-0106, ASB-M601F-72-00-00-0057 and ASB-M601Z-72-00-00-0057 (issued as a single document)], providing instructions to recalculate the consumed life of certain critical parts, and [GEAC ASB-M601E-72-30-00-0105], providing instructions for certain M601E engines to replace the compressor case with an eligible part.

For the reason described above, this [EASA] AD requires replacement of critical parts, the recalculated life of which exceeds the applicable life limit, and replacement of the compressor case on certain M601E engines.

You may obtain further information by examining the MCAI in the AD docket at https://www.regulations.gov by searching for and locating Docket No. FAA-2021-0499.

FAA's Determination

The FAA is issuing this AD because the agency has determined the unsafe condition described previously is likely to exist or develop in other products of the same type design.

Related Service Information Under 1 CFR Part 51

The FAA reviewed GE Aviation Czech ASB-M601F-72-00-00-0057 [00], ASB-M601E-72-00-00-0106 [00], ASB-M601D-72-00-00-0075 [00], and ASB-M601Z-72-00-00-0057 [00] (single document; formatted as service bulletin identifier [revision number]), dated May 7, 2021. This ASB specifies procedures for calculating consumed life of the critical parts. This service information is reasonably available because the interested parties have access to it through their normal course of business or by the means identified in ADDRESSES.

Other Related Service Information

The FAA reviewed GE Aviation Czech ASB-M601E-72-30-00-0105 [00] (formatted as service bulletin identifier [revision number]), dated May 7, 2021. This ASB introduces life limits to compressor case P/N M601-154.61.

AD Requirements

This AD requires recalculating the life of critical parts and, depending on the results of the recalculation, replacement of critical parts. This AD also requires replacement of compressor case, part number M601-154.61, installed on GEAC M601E model turboprop engines.

Differences Between the AD and the Service Information

EASA Emergency AD 2021-0125-E, dated May 7, 2021, applies to GEAC M601D, M601D-1, M601D-2, M601D-11, M601D-11NZ, M601E, M601E-11, M601E-11A, M601E-11AS, M601E-11S, M601E-21, M601F, M601FS, M601F-11, M601F-22, M601F-32, M601T, and M601Z model turboprop engines. This AD does not include GEAC M601D, M601D-1, M601D-2, M601D-11NZ, M601E, M601E-21, M601FS, M601F-11, M601F-22, M601F-32, M601T, and M601Z model turboprop engines as these engine models are not type certificated in the United States.

Interim Action

The FAA considers this AD to be an interim action. This unsafe condition is still under investigation by the manufacturer and, depending on the results of that investigation, the FAA may consider further rulemaking action.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule. In May 2021, the FAA received a notification from the manufacturer about their discovery of errors with the formula for calculating the life limit of critical parts located in the ALS of the EMM. The manufacturer also discovered that compressor case, P/N M601-154.61, which was modified and installed in GEAC M601E model turboprop engines, had no corresponding life limit listed in the ALS of the corresponding EMM. As a result of discovering these errors, the manufacturer published service information providing instructions to update the formula used to recalculate life limits on critical parts and introduce a life limit for compressor case P/N M601-154.61.

Critical parts exceeding their life limits can result in failure of the engine, further resulting in uncontained release of a critical part, damage to the engine, and damage to the airplane. The FAA considers the failure of a critical part to be an urgent safety issue that requires immediate action to avoid damage to the engine and airplane.

Accordingly, notice and opportunity for prior public comment are impracticable and contrary to the public interest pursuant to 5 U.S.C. 553(b)(3)(B). In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0499 and Project Identifier MCAI-2021-00571-E” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Barbara Caufield, Aviation Safety Engineer, ECO Branch, FAA, 1200 District Avenue, Burlington, MA 01803. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 9 engines installed on airplanes of U.S. registry.

The FAA estimates the following costs to comply with this AD:

Estimated Costs
Action | Labor cost | Parts cost | Cost per product | Cost on U.S. operators
Recalculate life of critical parts | 1 work-hour × $85 per hour = $85 | $0 | $85 | $765
Replace compressor case | 10 work-hours × $85 per hour = $850 | 64,655 | 65,505 | 589,545

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-13-07 GE Aviation Czech s.r.o (Type Certificate previously held by WALTER Engines a.s., Walter a.s., and MOTORLET a.s.): Amendment 39-21612; Docket No. FAA-2021-0499; Project Identifier MCAI-2021-00571-E.

(a) Effective Date

This airworthiness directive (AD) is effective June 30, 2021.

(b) Affected ADs

None.

(c) Applicability

This AD applies to GE Aviation Czech s.r.o. (GEAC) M601D-11, M601E-11, M601E-11A, M601E-11AS, M601E-11S, and M601F model turboprop engines.

(d) Subject

Joint Aircraft System Component (JASC) Code 7200, Engine (Turbine/Turboprop).

(e) Unsafe Condition

This AD was prompted by the manufacturer finding errors in the Airworthiness Limitation Section (ALS) of the Engine Maintenance Manual (EMM), including errors in the formula to determine the consumed equivalent flight cycles (FCs) of critical parts and errors with certain part numbers (P/Ns). The manufacturer also determined that the life limit of compressor case, P/N M601-154.61, installed on certain GEAC M601E model engines is not listed in the ALS of the applicable EMM. The FAA is issuing this AD to prevent the failure of the engine. The unsafe condition, if not addressed, could result in uncontained release of a critical part, damage to the engine, and damage to the airplane.

(f) Compliance

Comply with this AD within the compliance times specified, unless already done.

(g) Required Actions

(1) For all affected GEAC model turboprop engines, within one FC after the effective date of this AD, perform all actions in the Accomplishment Instructions, paragraphs 2.1 through 2.3, of GE Aviation Czech Alert Service Bulletin (ASB) ASB-M601F-72-00-00-0057 [00], ASB-M601E-72-00-00-0106 [00], ASB-M601D-72-00-00-0075 [00], and ASB-M601Z-72-00-00-0057 [00] (single document; formatted as service bulletin identifier [revision number]) (the ASB), dated May 7, 2021.

(2) For GEAC M601E-11, M601E-11A, and M601F model turboprop engines listed in Attachment 1, Group 1 Engines Serial Numbers, in the ASB, before the recalculated life exceeds the critical part's life limit or within one FC after the effective date of this AD, whichever occurs later, replace each critical part.

(3) For GEAC M601D-11, M601E-11AS, and M601E-11S model turboprop engines, before the recalculated life exceeds the critical part's life limit or within 30 days after the effective date of this AD, whichever occurs later, replace each critical part.

(4) For GEAC M601E-11, M601E-11A, M601E-11AS, and M601E-11S model turboprop engines, before the compressor case, P/N M601-154.61, accumulates 11,000 equivalent FCs or within 350 flight hours from the effective date of this AD, whichever occurs first, remove the compressor case from service and replace it with compressor case, P/N M601-154.6 or P/N M601-154.65.

(h) Installation Prohibition

After the effective date of this AD, do not install onto any airplane an engine with a critical part having a recalculated life that exceeds the critical part's life limit as specified in the Airworthiness Limitation Section (ALS) of the applicable EMM.

(i) No Reporting Requirement

The reporting requirement in the Accomplishment Instructions, paragraph 2.2.1.4., of the ASB, is not required by this AD.

(j) Definitions

(1) For the purpose of this AD, a “critical part” is an engine part listed in paragraph 2.3.1, Table B—List of Critical Parts and the Accelerating Factor, of the ASB.

(2) For the purpose of this AD, “recalculated life” is the consumed life of the critical part using the recalculation required by (g)(1) of this AD.

(3) For the purpose of this AD, where the ASB says the “applicable Airworthiness Limitation Section” use the following:

(i) For affected model engines M601D-1, M601D-11, M601D-11NZ, M601D-2, M601Z: “the ALS section of GE Aviation Engine Maintenance Manual 0982309.”

(ii) For affected model engines M601E-11, M601E-11S, M601E-11A, M601E-11AS, M601F, M601FS: “the ALS section of GE Aviation Engine Maintenance Manual 0982302.”

(k) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information. You may email your request to: ANE-AD-AMOC@faa.gov.

(2) Before using any approved AMOC, notify your appropriate principal inspector, or lacking a principal inspector, the manager of the local flight standards district office/certificate holding district office.

(l) Related Information

(1) For more information about this AD, contact Barbara Caufield, Aviation Safety Engineer, ECO Branch, FAA, 1200 District Avenue, Burlington, MA 01803; phone: (781) 238-7146; fax: (781) 238-7199; email: barbara.caufield@faa.gov.

(2) Refer to European Union Aviation Safety Agency (EASA) Emergency AD 2021-0125-E, dated May 7, 2021, for more information. You may examine the EASA AD in the AD docket at https://www.regulations.gov by searching for and locating it in Docket No. FAA-2021-0499.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GE Aviation Czech Alert Service Bulletin (ASB) ASB-M601F-72-00-00-0057 [00], ASB-M601E-72-00-00-0106 [00], ASB-M601D-72-00-00-0075 [00], and ASB-M601Z-72-00-00-0057 [00] (single document; formatted as service bulletin identifier [revision number]), dated May 7, 2021.

(ii) [Reserved]

(3) For GE Aviation Czech service information identified in this AD, contact GE Aviation Czech s.r.o., Beranových 65, 199 00 Praha 18, Letnany, Czech Republic; phone: +420 222 538 111; fax: +420 222 538 222.

(4) You may view this service information at FAA, Airworthiness Products Section, Operational Safety Branch, 1200 District Avenue, Burlington, MA 01803. For information on the availability of this material at the FAA, call (781) 238-7759.

(5) You may view this service information that is incorporated by reference at the National Archives and Records Administration (NARA). For information on the availability of this material at NARA, email: fedreg.legal@nara.gov, or go to: https://www.archives.gov/federal-register/cfr/ibr-locations.html.

Issued on June 10, 2021.
Lance T. Gant,
Director, Compliance & Airworthiness Division, Aircraft Certification Service.

[FR Doc. 2021-12659 Filed 6-11-21; 11:15 am]

BILLING CODE 4910-13-P